DEPARTMENT OF TRANSPORTATION

Federal Railroad Administration

[Docket No. FRA-2019-0004-N-11]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. The ICRs describe the information collections and their expected burden. On May 30, 2019, FRA published a notice providing a 60-day period for public comment on the ICRs.

DATES: Interested persons are invited to submit comments on or before August 29, 2019.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, Federal Railroad Administration, 1200 New Jersey Avenue SE, Room W33-497, Washington, DC 20590 (telephone: (202) 493-6292); or Ms. Kim Toone, Information Collection Clearance Officer, Office of Information Technology, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On May 30, 2019, FRA published a 60-day notice in the Federal Register soliciting comment on the ICRs for which it is now seeking OMB approval. See 84 FR 25110. FRA received no comments in response to this notice.

Before OMB decides whether to approve these proposed collections of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Designation of Qualified Persons.

OMB Control Number: 2130-0511.

Abstract: The collection of information is used to prevent the unsafe movement of defective freight cars. Railroads are required to inspect freight cars for compliance and to determine restrictions on the movements of defective cars; qualified inspectors are necessary to perform this task.

Type of Request: Extension without change of a currently approved collection.

Affected Public: Businesses.

Form(s): N/A.

Respondent Universe: 692 Railroads.

Frequency of Submission: On occasion.

Total Estimated Annual Responses: 1,200.

Total Estimated Annual Burden: 40 hours.

Total Estimated Annual Dollar Cost Equivalent: $3,080.

Title: Qualification and Certification of Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required FRA to issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Type of Request: Extension with change (revised estimates) of a currently approved collection.

Affected Public: Businesses.

Form(s): N/A.

Respondent Universe: 741 Railroads.

Frequency of Submission: On occasion; annually; triennially.

Reporting Burden: ¹

¹ After an internal agency review, FRA updated the PRA estimates.

² Throughout the tables in this document, the dollar equivalent cost is derived from the Surface Transportation Board's Full Year Wage A&B data series using the appropriate employee group hourly wage rate that includes 75 percent overhead charges.

CFR section | Respondent universe | Total annual responses | Average time per response | Total annual burden hours | Total annual dollar cost equivalent ²
240.9—Waivers | 741 railroads | 2 waiver petitions | 1 hour | 2 | $152
240.101/103—Cert. Prog: Amendments | 741 railroads | 25 amendments | 5 minutes | 2 | 152
—Cert. Prog.—New | 5 railroads | 5 programs | 1 hour | 5 | 380
—Final Review | 5 railroads | 5 reviews | 1 hour | 5 | 385
—Material Modification to Program | 741 railroads | 10 modified programs | 10 minutes | 2 | 152
240.105(b)-(c) Written Reports/Determinations of DSLE Performance Skills | 10 railroads | 10 reports | 30 minutes | 5 | 575
240.109/App. C—Prior Safety Conduct Data | 17,667 candidates | 25 responses | 5 minutes | 2 | 116
240.111/App C—Driver's License Data | 17,667 candidates | 17,667 requests | 10 minutes | 2,945 | 223,820
—NDR Match—notifications and requests for data | 741 railroads | 177 notices + 177 requests | 5 min. + 5 min | 30 | 2,010
—Written response from candidate on driver's license data | 741 railroads | 20 cases/comments | 10 minutes | 3 | 174
240.111(g)—Notice to RR of Absence of License | 53,000 candidates | 4 letters | 5 minutes | .3 | 19
240.111(h)—Duty to furnish data on prior safety conduct as motor vehicle op | 741 railroads | 100 communications | 5 minutes | 8 | 464
240.113—Notice to RR Furnishing Data on Prior Safety Conduct—Diff. RR | 17,667 candidates | 353 requests + 353 responses | 5 min. + 5 min | 59 | 4,130
240.119—Self-referral to EAP re: Active substance abuse disorder | 53,000 locomotive engineers | 150 self-referrals | 5 minutes | 13 | 754
240.121—Criteria—Vision/Hearing Acuity Data—New Railroads | 5 railroads | 5 copies | 5 minutes | .4 | 32
240.121—Criteria—Vision/Hearing Acuity Data—Cond. Certification | 741 railroads | 5 reports | 5 minutes | .4 | 32
240.121—Criteria—Vision/Hearing Acuity Data—Not Meeting Standards—Notice by Employee | 741 railroads | 10 notifications | 15 minutes | 3 | 174
240.201/221—List of Qualified DSLEs | 741 railroads | 741 updates | 5 minutes | 62 | 4,712
240.201/221—List of Qualified Loco. Engineers | 741 railroads | 741 updated lists | 5 minutes | 62 | 4,712
240.201/223/301—Loco. Engineers Certificate | 53,000 candidates | 17,667 certificates | 5 minutes | 1,472 | 111,872
—False entry on certificates | N/A | N/A | N/A | N/A | N/A
240.207—Medical certificate showing hearing/vision standards are met: Written determinations waiving use of corrective device | 53,000 candidates 741 railroads | 17,667 certificates 30 determinations | 30 minutes 5 minutes | 8,834 3 | 1,015,910 345
240.219—Denial of Certification | 17,667 candidates | 30 letters + 30 responses | 30 minutes | 30 | 2,280
240.227—Canadian Certification Data | N/A | N/A | N/A | N/A | N/A
240.229—Joint Operations—Notice—not qualified | 321 railroads | 184 employee calls | 5 minutes | 15 | 870
240.309—RR Oversight Resp.: Detected poor safety conduct—annotation | 15 railroads | 6 annotations | 15 minutes | 2 | 116
Recordkeeping: 240.205—Data to EAP Counselor | 741 railroads | 177 records | 5 minutes | 15 | 1,725
240.209/213—Written Tests Records | 53,000 candidates | 17,667 test records | 1 minutes | 294 | 22,334
240.211/213—Performance Test Records | 53,000 candidates | 17,667 test records | 1 minutes | 294 | 22,334
240.215—Retaining info. supporting determination | 741 railroads | 17,667 records | 5 minutes | 1,472 | 111,872
240.303—Annual operational monitor observation records | 53,000 candidates | 53,000 test records | 1 minutes | 883 | 67,108
240.303—Annual operating rules compliance test records | 53,000 candidates | 53,000 test records | 1 minutes | 883 | 67,108
240.305—Engineer's notice of non-qualification to RR | 53,000 engineers or candidates | 100 notifications | 5 minutes | 8 | 464
—Relaying certification denial or revocation Status to other certifying railroad | 1,060 engineers | 2 letters | 15 minutes | 1 hour | 58
240.307—Notice to engineer of disqualification | 741 railroads | 1,100 letters | 1 hour | 1,100 | 73,700
240.309—Railroad annual review | 51 railroads | 51 reviews | 3 | 153 | 11,628
Total | 741 railroads | 217,059 responses | N/A | 18,668 | 1,752,700

Total Estimated Annual Responses: 216,630.

Total Estimated Annual Burden: 18,668.

Total Estimated Annual Dollar Cost Equivalent: $1,752,700.

Title: Roadway Worker Protection.

OMB Control Number: 2130-0539.

Abstract: On June 10, 2016, FRA amended its Roadway Worker Protection (RWP) regulation (see 81 FR 37840) to resolve interpretative issues that had arisen since the original 1996 promulgation of that rule. In particular, this final rule adopted certain terms, resolved miscellaneous interpretive issues, codified certain FRA Technical Bulletins, adopted new requirements governing redundant signal protections and the movement of roadway maintenance machinery over signalized non-controlled track, and amended certain qualification requirements for roadway workers. This final rule also deleted three outdated incorporations by reference of industry standards in FRA's Bridge Worker Safety Standards, and cross referenced the Occupational Safety and Health Administration's regulations on the same point.

Under the information collection associated with the RWP rule (49 CFR part 214), FRA collects a variety of information. To ensure compliance with the rule's requirements, FRA collects data on affected railroads' on-track safety programs to determine that railroads have policies, procedures, and practices in place that protect roadway workers from dangers in their work environment. Railroads are required to provide on-track safety manuals to all roadway workers that they can readily consult to determine what on-track safety procedures are required for their work assignment. Under the regulation, railroads are required to provide initial and recurrent training to roadway workers on their on-track safety program. This includes training for roadway workers who work where on-track safety for adjacent controlled tracks is required, and the appropriate practices and procedures they must follow. FRA collects data from railroads on training through the records that they are required to keep. Additionally, FRA collects information on violations of workplace safety regulations on Form FRA F 6180.119. FRA uses violation information to support actions that will reduce or eliminate hazards to railroad workers. Specifically, FRA uses the information that it collects under this regulation to monitor and enforce requirements relating to the safety of roadway workers and ensure that railroads fulfill their responsibilities to keep roadway workers secure and free from unnecessary and avoidable hazards.

Type of Request: Extension with change (revised estimates) of a currently approved collection.

Affected Public: Businesses/50,000 Roadway Workers/State Safety Inspectors.

Form(s): FRA F 6180.119.

Respondent Universe: 741 Railroads.

Frequency of Submission: On occasion.

Reporting Burden: ³

³ After an internal agency review, FRA updated the PRA estimates.

CFR section | Respondent universe | Total annual responses | Average time per response | Total annual burden hours | Total annual dollar cost equivalent
Form FRA F 6180.119—Part 214 Railroad Workplace Safety Violation Report | 350 Safety Inspectors | 129 forms | 4 hours | 516 | $29,412
214.307—Railroad On-Track Safety Programs—RR Programs that comply with this Part + copies at System/Division Headquarters | 741 Railroads | 276 programs + 325 copies | 2 hours + 2 minutes | 563 | 42,788
—RR Notification to FRA not less than one month before on-track safety program takes effect | 741 Railroads | 276 notices | 20 minutes | 92 | 6,992
—RR Amended on-track safety programs after FRA disapproval | 741 Railroads | 1 program | 4 hours | 4 | 304
—RR Written response in support of disapproved program | 741 Railroads | 1 written response | 20 hours | 20 | 1,520
214.309—On-Track Safety Manual—RR Provisions for alternative access to information in on-track safety manual | 741 Railroads | 741 provisions | 60 minutes | 741 | 56,316
—RR Publication of bulletins/notices reflecting changes in on-track safety manual | 60 Railroads | 100 bulletins/notices | 60 minutes | 100 | 7,600
214.311—RR Written procedure to achieve prompt and equitable resolution of good faith employee challenges | 19 Railroads | 5 developed procedures | 2 hours | 10 | 760
214.317—On-Track Safety Procedures, generally, for snow removal, and weed spray equipment, tunnel niche or clearing by | 19 Railroads | 5 operating procedures | 2 hours | 10 | 760
214.318—Procedures established by railroads for workers to perform duties incidental to those of inspecting, testing, servicing, or repairing rolling equipment | 741 Railroads | 19 rules/procedures | 2 hours | 38 | 2,888
214.320—Roadway Maintenance Machines Movement over signalized non-controlled track—RR request to FRA for equivalent level of protection to that provided by limiting all train and locomotive movements to restricted speed | 741 Railroads | 5 requests | 4 hours | 20 | 1,520
214.322—Exclusive Track Occupancy, Electronic Display—Written Authorities/Printed Authority Copy If Electronic Display Fails or Malfunctions | 3 Class I Railroads | 1,000 written authorities | 10 minutes | 167 | 9,519
214.329—Train Approach Warning—Written Designation of Watchmen/Lookouts | 741 Railroads | 26,250 written designations | 30 seconds | 219 | 16,644
214.336—Procedures for adjacent track movements over 25 mph: Notifications/watchmen/lookout warnings | 100 Railroads | 10,000 notices | 5 seconds | 14 | 798
—Procedures for adjacent track movements 25 mph or less: Notifications/watchmen/lookout warnings | 100 Railroads | 3,000 notices | 5 seconds | 4 | 228
214.339—Audible warning from trains: Written procedures that prescribe effective requirements for audible warning by horn and/or bell for trains | 19 Railroads | 19 written procedures | 4 hours | 76 | 5,776
214.343/345/347/349/351/353/355—Annual training for all roadway workers (RWs)—Records of training | 50,000 roadway workers | 50,000 records | 2 minutes | 1,667 | 126,692
214.503—Notifications for Non-Compliant Roadway Maintenance Machines or Unsafe Condition | 50,000 roadway workers | 125 notices | 10 minutes | 21 | 1,197
—Resolution Procedures | 19 railroads | 5 procedures | 2 hours | 10 | 760
214.505—Required environmental control and protection systems for new on-track roadway maintenance machines with enclosed cabs | 741 Railroads/200 contractors | 500 lists | 1 hour | 500 | 38,000
—Designations/additions to list | 692 Class III Railroads/200 contractors | 150 additions/designations | 5 minutes | 13 | 988
214.507—A-Built Light Weight on New Roadway Maintenance Machines | 692 Class III Railroads/200 contractors | 1,000 stickers/stencils | 5 minutes | 83 | 4,731
214.511—Required Audible Warning Devices for New On-Track Roadway Maintenance Machines | 692 Class III Railroads/200 contractors | 3,700 identified mechanisms | 5 minutes | 308 | 17,556
214.515—Overhead covers for existing on-track roadway maintenance machines | 692 Class III Railroads/200 contractors | 500 requests + 500 responses | 10 mins + 20 mins | 250 | 17,423
214.517—Retrofitting of Existing On-Track Roadway Maintenance Machines Manufactured On or After Jan. 1, 1991 | 692 Class III Railroads/200 contractors | 500 stencils/displays | 5 minutes | 42 | 2,394
214.523—Hi-Rail Vehicles | 692 Class III Railroads/200 contractors | 5,000 records | 5 minutes | 417 | 23,769
—Non-complying conditions | 692 Class III Railroads/200 contractors | 500 tags + 500 reports | 10 minutes + 15 minutes | 208 | 11,856
214.527—Inspection for compliance; Repair schedules | 692 Class III Railroads/200 contractors | 550 tags + 550 reports | 5 minutes + 15 minutes | 183 | 10,431
214.533—Schedule of repairs; Subject to availability of parts | 692 Class III Railroads/200 contractors | 250 records | 15 minutes | 63 | 4,788
Total | 741 railroads | 106,482 responses | N/A | 6,359 | 444,410

Total Estimated Annual Responses: 106,482.

Total Estimated Annual Burden: 6,359 hours.

Total Estimated Annual Dollar Cost Equivalent: $444,410.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-16011 Filed 7-29-19; 8:45 am]

BILLING CODE 4910-06-P